DEPARTMENT OF TRANSPORTATION

Federal Aviation Administration

Notice of Final FAA Decision on Proposed Airport Access Restriction

AGENCY: Federal Aviation Administration (FAA), Department of Transportation (DOT).

ACTION: Notice.

SUMMARY: The Airport Noise and Capacity Act of 1990 (hereinafter referred to as “the Act” or “ANCA”) provides notice, review, and approval requirements for airports seeking to impose noise or access restrictions on Stage 3 aircraft operations that become effective after October 1, 1990. 49 U.S.C. 47521 et seq.

The Federal Aviation Administration (FAA) announces that it has disapproved the application for an airport noise and access restriction submitted by the Burbank Glendale Pasadena Airport Authority (BGPAA) for Bob Hope Airport (BUR) under the provisions of 49 U.S.C. 47524 of the ANCA, and 14 CFR part 161. The FAA determined that the application does not provide substantial evidence the restriction meets the six statutory conditions for approval under ANCA and part 161. The FAA's decision was issued October 30, 2009.

DATES: Effective Date: The effective date of the FAA's decision on the application for a mandatory noise and access restriction at BUR is October 30, 2009. The FAA found the application was completed on May 5, 2009 (74 FR 29530). The FAA opened a docket for public comment (FAA-2009-0546). The FAA received nearly 150 separate comments, which were considered during the FAA's evaluation of the BGPAA application.

FOR FURTHER INFORMATION CONTACT: Victoria L. Catlett, Planning and Environmental Division, APP-400, 800 Independence Avenue, SW., Washington, DC 20591. E-mail address: vicki.catlett@faa.gov. Telephone number 202-267-8770.

SUPPLEMENTARY INFORMATION: On February 3, 2009, FAA received BGPAA's initial request for approval of a full, mandatory night-time curfew at Bob Hope Airport as described in the attached application. The application states “Pursuant to FAR Part 161.311(d) the Authority is seeking a full, mandatory night-time curfew as described in the attached application. The [BGPAA] is not seeking any other alternative restriction.” On March 5, 2009, FAA determined that the application was complete except for the environmental documentation provided in support of a categorical exclusion under the National Environmental Policy Act (NEPA). By letter dated March 9, 2009, BGPAA stated its intent to supplement and resubmit the application. On May 5, 2009, FAA received BGPAA's supplemented application. On May 29, 2009, FAA determined BGPAA's application to be complete. Pursuant to 14 CFR 161.313(c)(4)(ii), the FAA's 180-day review period starts on the date of receipt of the last supplement to the application (May 5, 2009).

The FAA may only approve a restriction that demonstrates, by substantial evidence, each of the six statutory conditions have been met. 14 CFR part 161, § 161.305. These six statutory conditions of approval are: Condition 1: The restriction is reasonable, nonarbitrary, and nondiscriminatory; Condition 2: The restriction does not create an undue burden or interstate or foreign commerce; Condition 3: The proposed restriction maintains safe and efficient use of the navigable airspace; Condition 4: The proposed restriction does not conflict with any existing Federal statute or regulation; Condition 5: The applicant has provided adequate opportunity for public comment on the proposed restriction; and Condition 6: The proposed restriction does not create an undue burden on the national aviation system. The FAA evaluated BGPAA's application under the provisions of 14 CFR 161.317 and determined the application satisfies the requirements under Condition 4 and Condition 5. However, the application does not satisfy the requirements under Condition 1, Condition 2, Condition, 3, or Condition 6.

This notice also announces the availability of the FAA's final agency order disapproving the airport access restriction at http://www.faa.gov/airports/.

Questions may be directed to the individual named above under the heading, FOR FURTHER INFORMATION CONTACT.

Issued in Washington DC on December 4, 2009.
Benito DeLeon,
Director, Office of Airport Planning and Programming.

[FR Doc. E9-29397 Filed 12-14-09; 8:45 am]

BILLING CODE 4910-13-P